DEPARTMENT OF HEALTH AND HUMAN SERVICES

Food and Drug Administration

Susceptibility of Foodborne Pathogens from Humans, Food, and Animals

AGENCY: Food and Drug Administration, HHS.

ACTION: Notice.

SUMMARY: The Food and Drug Administration (FDA), Center for Veterinary Medicine (CVM), announces that funds may be available to support an unsolicited grant application submitted by the Fundación Mexicana para la Salud, Int. Hospital O'Horan, Merida, Yucatan, Mexico. The applicant has requested funds to study the epidemiology of Salmonella, Campylobacter and generic Escherichia coli in four states in Mexico to better define the susceptibility patterns of the pathogens and the risk factors associated with drug resistance, particularly quinolone resistance.

FOR FURTHER INFORMATION CONTACT: Regarding the administrative and financial management aspects of this notice: Peggy L. Jones, Division of Contracts and Procurement Management (HFA-520), Food and Drug Administration, 5600 Fishers Lane, Rockville, MD 20857, 301-827-7160. Correspondence hand-carried or commercially delivered should be addressed to 5630 Fishers Lane (HFA-520), rm. 2129, Rockville, MD 20857.

Regarding the programmatic aspects of this notice: David B. Batson, Office of Research (HFV-502), Center for Veterinary Medicine, Food and Drug Administration, 8401 Muirkirk Rd., Laurel, MD 20708, 301-827-8021.

SUPPLEMENTARY INFORMATION:

I. Objectives

The specific objectives of the proposed project are to: (1) Develop effective surveillance of antimicrobial resistance in foodborne pathogens in human, food, and veterinary laboratories at the four participating sites; (2) standardize the methods for isolation, identification, and antimicrobial susceptibility testing of foodborne pathogens at these four sites; (3) determine the prevalence of Salmonella spp., Campylobacter spp., and quinolone-resistant generic E. coli in asymptomatic and ill humans, poultry, pork, beef, and healthy food animals on farms; (4) identify and compare susceptibility profiles of the Salmonella spp., Campylobacter spp., and generic E. coli isolates; and (5) assess the importance of direct and indirect contact with food-animals as risk factors for quinolone-resistance in these isolates.

II. Eligible Applicants

Assistance will only be provided to the Fundación Mexicana para la Salud because of the following:

1. The Fundación Mexicana para la Salud is the only organization that submitted an unsolicited application for the purpose stated above.

2. The project proposed by the applicant specifically addresses the National Antimicrobial Resistance Monitoring System objectives in general and international objectives for the establishment of an international data base.

3. The knowledge of sources of exposure to drug resistant pathogens in Mexico would provide information that could be made available to travelers and would also assist in making assessments of the levels of fluoroquinolone resistance in domestic cases of illness acquired from animal food products imported from Mexico and Guatemala.

4. An international data base can provide information to the international community on the level of antimicrobial drug resistance in foodborne pathogens, providing a means for assessing public health concerns.

5. The proposal would benefit CVM and the international community in the establishment of an international data base for antimicrobial susceptibility and enhance food safety activities globally.

III. Funding

We anticipate that approximately $371,144, which is the requested level of funding, or some lesser amount will be made available in fiscal year (FY) 2001 to fund this project. It is expected that the award will begin sometime in FY 2001 and will be made for a 12-month budget period within a project period of up to 3 years. Funding estimates may change. Continuation awards within an approved project period will be made on the basis of satisfactory progress as evidenced by required reports and the availability of funds.

Dated: December 11, 2000.
Margaret M. Dotzel,
Associate Commissioner for Policy.

[FR Doc. 00-32378 Filed 12-19-00; 8:45 am]

BILLING CODE 4160-01-F